DEPARTMENT OF THE INTERIOR

Bureau of Land Management

[LLCAD08000.L12200000.DS0000.18XL1109AF.LXSSB0010000]

Notice of Availability of the Draft Supplemental Environmental Impact Statement for the West Mojave Route Network Project and Draft Land Use Plan Amendment to the California Desert Conservation Area Plan in the West Mojave Planning Area, Inyo, Kern, Los Angeles, Riverside, and San Bernardino Counties, CA

AGENCY: Bureau of Land Management, Interior.

ACTION: Notice of availability.

SUMMARY: In accordance with the National Environmental Policy Act of 1969, as amended (NEPA), and the Federal Land Policy and Management Act of 1976, as amended, the Bureau of Land Management (BLM) has prepared a Draft Land Use Plan Amendment (LUPA) and Draft Supplemental Environmental Impact Statement (DSEIS) for the West Mojave Route Network Project (WMRNP) within the West Mojave (WEMO) Planning Area of the California Desert Conservation Area (CDCA) and by this Notice is announcing the opening of the 90-day public comment period.

DATES: To ensure public comments will be considered, the BLM must receive written comments on the DSEIS/LUPA within 90 days following the date the Environmental Protection Agency publishes its Notice of Availability in the Federal Register. The BLM will announce future meetings or hearings and any other public participation activities at least 15 days in advance through public notices, media releases, and/or mailings.

ADDRESSES: You may submit comments related to the WMRNP by any of the following methods:

• Email: blm_ca_wemo_project@blm.gov.

• Fax: 951-697-5299; Attn: WMRNP Plan Amendment.

• Mail: Bureau of Land Management, California Desert District, Attn: WMRNP Plan Amendment, 22835 Calle San Juan de Los Lagos, Moreno Valley, CA 92553.

Copies of the WMRNP Draft LUPA and DS EIS are available in the California Desert District Office at the above address; the Ridgecrest Field Office, 300 S. Richmond Rd., Ridgecrest, CA 93555; and the Barstow Field Office, 2601 Barstow Road, Barstow CA 92311. Copies are also available online at https://www.blm.gov/programs/planning-and-nepa/plans-development/california/west-mojave-plan-route-network.

FOR FURTHER INFORMATION CONTACT: Matt Toedtli, Planning and Environmental Coordinator, 2601 Barstow Road, Barstow, CA 92311; telephone 760-252-6026; email mtoedtli@blm.gov. Persons who use a telecommunications device for the deaf (TDD) may call the Federal Relay Service at 1-800-877-8339 to contact the above individual during normal business hours. The service is available 24 hours a day, 7 days a week, to leave a message or question with the above individual. You will receive a reply during normal business hours.

SUPPLEMENTARY INFORMATION: The WMRNP will delineate travel management areas, adopt transportation and travel management strategies, and designate routes on public lands in the WEMO Planning Area. The WEMO Planning Area covers 9.4-million acres of the CDCA in the western portion of the Mojave Desert in southern California, including parts of San Bernardino, Los Angeles, Riverside, Kern, and Inyo counties. The WMRNP applies to the 3.1-million acres of public lands within the WEMO Planning Area. In March 2006, the BLM signed the Record of Decision (ROD) for the WEMO Plan and Amendment to the CDCA Plan. In January 2011, the U.S. District Court for the Northern District of California partially remanded the 2006 WEMO Plan Amendment ROD back to the BLM and directed the BLM to amend the CDCA Plan and reconsider route designation throughout the WEMO Planning Area, as well as other specified issues in the 2006 WEMO Plan (Center for Biological Diversity v. U.S. Bureau of Land Management Order Re: Remedy (N.D. Cal. Jan 28, 2011)). The court's order: (1) Invalidated the “decision tree” instrument used to evaluate and designate routes; (2) found that the authorization of off-highway vehicles (OHV) routes that were not in existence in 1980 were inconsistent with the governing land use plan; (3) found that there was not a reasonable range of alternatives to the proposed action, including an inadequate discussion of the No Action alternative; and (4) found that BLM had done an inadequate analysis of impacts from the route network and the grazing program to specific resource values, including soils, cultural resources, certain biological resources, and air quality.

On September 13, 2011, the BLM issued a Notice of Intent (amended May 2, 2013, 78 FR 25758), inviting comments on the proposed scope and content of the WMRNP. The WMRNP includes a LUPA to the CDCA Plan for livestock grazing, recreation, and motor vehicle access elements for the WEMO Planning Area; an associated travel management framework; and activity-plan level route designations and implementation strategies. The lands covered in the WMRNP are those that are within livestock grazing allotments or designated as “Limited” to designated routes for motorized access. Areas “Closed” to motorized access are not proposed for change in this plan amendment and are not within the scope of the planning effort.

The 9.4-million acres WEMO Planning Area includes several large Department of Defense facilities, covering almost 3 million acres; a portion of one national park; 3 million acres of private lands; and approximately 100,000 acres of State lands, including Red Rock Canyon State Park. The planning area is also adjacent to four national parks/preserves and four national forests. Much of the planning area is managed as part of the BLM's National Landscape Conservation System, including 18 wilderness areas, three wilderness study areas, and portions of the Pacific Crest Trail and the Old Spanish National Historic Trail. The planning area also includes 60 Areas of Critical Environmental Concern, five California Desert National Conservation Lands, seven National Register Archaeological or Historic Districts, and four Critical Habitat Units for the federally listed desert tortoise.

The planning area also includes eight OHV Open Areas that provide major points of ingress to and egress from the adjacent areas “Limited” to designated routes on public land. No changes are proposed to these OHV Open Areas or their boundaries.

The BLM used a public scoping process to determine issues, impacts, and possible alternatives that could influence the scope of the environmental analysis, and to help guide the agency from planning-level decision-making to route designation in order to comply with the court order.

The BLM initially published a Notice of Availability for the DSEIS for the West Mojave Route Network Project in March 2015, which was made available for public comment. Concurrently, the BLM was considering amending the CDCA Plan through the Desert Renewable Energy Conservation Plan (DRECP). The DRECP is a landscape-scale plan that considered renewable energy development and conservation in the CDCA. The DRECP LUPA was completed in September 2016, and included changes to land use allocations and management of those allocations. Based on public comment associated with the DRECP, the BLM decided to issue a new DS EIS for the West Mojave Route Network Project. The new DSEIS considers the DRECP LUPA's changes in the CDCA Plan.

During previous project scoping, the public raised the following transportation and management concerns:

• Need for a good inventory and accurate information related to the existing environment;

• Documentation and use of the regulatory criteria (43 CFR 8342.1) for route minimization;

• Mitigation for loss of access;

• Sensitive resource protection;

• Maintenance of access for various types of recreational, scientific, and other uses;

• Access to private lands;

• Trespass;

• Regional connectivity;

• Improving GIS and on-the-ground information for the public; and

• Implementation strategies such as signing, monitoring, and law enforcement.

In addition, a substantial number of comments indicated issues and needs associated with specific routes and route areas in the WEMO transportation system, and included recommendations on the designation of specific routes, including limiting use to street-legal vehicles. A few comments were also received on livestock grazing issues and the scope of the supplemental grazing program analysis.

In response to court order and on-the-ground changes since 2006, the DS EIS/LUPA, through four different alternatives, also includes consideration of the cumulative effects of the transportation system alternatives to resource values—particularly air quality, soils, cultural resources, certain biological resources, and certain sensitive species—as well as cumulative effects of livestock grazing and potential cumulative loss of recreational access opportunities. In response to public input, access considerations focused on maintaining a viable transportation network, diversifying recreational opportunities, providing access for specific users (e.g., rockhounds, motorcyclists, scientific and educational activities, and non-motorized users), dealing with conflicts among users, and maintaining commercial access needs.

The draft plan amendments address specific CDCA Plan inconsistencies with regulation and policies in the WEMO Planning Area, including amending language that limits the route network to routes that existed in 1980 and travel management guidance for route designations. Changes are proposed to the land-use plan guidelines for stopping, parking, and camping adjacent to routes in Limited Access Areas within the WEMO Planning Area, and to establish a regional minimization strategy for the route network. Through Alternative 2, changes are also considered to the livestock grazing program that would reallocate forage from livestock use to wildlife use and ecosystem function in desert tortoise critical habitat for active allotments or allotments that become vacant. In addition, the Draft considers plan-level decisions modifying motorized use on four specific lakebeds, including Cuddeback Dry Lake, and competitive motorized use of routes. The Draft also considers activity-level travel management plans. Four alternatives are evaluated, including a No Action alternative.

Finally, the Draft includes activity-level specific route designation alternatives, based on the 43 CFR 8342.1 criteria and different thresholds for minimization or closure. The preferred alternative would designate a sustainable travel network and transportation system of approximately 6,300 miles from an inventory of about 16,000 miles of linear transportation features within the WEMO Planning Area, as compared to the current network of approximately 6,000 miles. The designated route network addresses the need for public, authorized, and administrative access to and across BLM-managed lands, including motorized, non-motorized, and non-mechanized modes of travel, while balancing the need to protect sensitive desert resources, and minimizing the impact to those resources.

The preferred alternative also includes network-wide minimization measures that would limit the extent of off-route stopping and parking throughout the planning area to (1) Minimize impacts to undisturbed habitat; (2) Enhance watersheds; and (3) Protect adjacent sensitive resources. Other measures are based on proximity to sensitive resources, such as riparian systems, that would enhance these resources throughout the planning area. The preferred alternative provides for designated camping and staging areas to direct intensive use to manageable locations.

Please note that public comments and information submitted, including names, street addresses, and email addresses of persons who submit comments, will be available for public review and disclosure at the above address during regular business hours (8 a.m. to 4 p.m.), Monday through Friday, except holidays.

Before including your address, phone number, email address, or other personal identifying information in your comment, you should be aware that your entire comment—including your personal identifying information—may be made publicly available at any time. While you can request to withhold your personal identifying information from public review, BLM cannot guarantee that we will be able to do so.

Authority: 40 CFR 1506.6, 40 CFR 1506.10, 43 CFR 1610.2.

Jerome E. Perez,
California State Director.

[FR Doc. 2018-05272 Filed 3-15-18; 8:45 am]

BILLING CODE 4310-40-P